DEPARTMENT OF EDUCATION

[CFDA No.: 84.037]

Office of Student Financial Assistance; Federal Perkins and National Direct Student Loan Programs

AGENCY: Department of Education.

ACTION: Notice of availability of the Federal Perkins Loan and National Direct Student Loan Programs Directory of Designated Low-Income Schools for Teacher Cancellation Benefits for the 1999-2000 School Year.

SUMMARY: We are announcing that the 1999-2000 Federal Perkins Loan and National Direct Student Loan Programs Directory of Designated Low-Income Schools (The Directory) is now available on the Department of Education's (the Department's) Web site. Under the Federal Perkins Loan and National Direct Student Loan programs, a borrower may have repayment of his or her loan deferred and a portion of his or her loan canceled if the borrower teaches full-time for a complete academic year in a designated elementary or secondary school having a high concentration of students from low-income families. In the 1999-2000 Directory, we list, on a State-by-State and Territory-by-Territory basis, the schools in which a borrower may teach during the 1999-2000 school year to qualify for deferment and cancellation benefits.

DATES: The Directory is currently available at the Department's Web site.

ADDRESSES: You may obtain information concerning specific schools listed in the Directory from Chrissa Allen, Systems Administration Branch, Campus-Based Programs Systems Division, Office of Student Financial Assistance, U.S. Department of Education, 400 Maryland Avenue, S.W., (Portals Building, Room 6200), Washington, D.C. 20202-5447, Telephone (202) 708-7738. You may obtain information concerning deferment and cancellation of a National Direct or Federal Perkins loan from Gail McLarnon, Program Specialist, Product Development Division, Office of Student Financial Assistance, U.S. Department of Education, 400 Maryland Avenue, S.W., (Regional Office Building 3, Room 3045), Washington, D.C. 20202-5447, Telephone (202) 708-8242. Individuals who use a telecommunications device for the deaf (TDD) may call the Federal Information Relay Service (Firs) at 1-800-877-8339.

FOR FURTHER INFORMATION CONTACT: Directories are also available in an electronic format at (1) each institution of higher education participating in the Federal Perkins Loan Program, (2) each of the fifty-seven (57) State and Territory Departments of Education, (3) each of the major Federal Perkins Loan billing services, and (4) the U.S. Department of Education, including its regional offices. Individuals with disabilities may obtain this notice in an alternate format (e.g., Braille, large print, audiotape, or computer diskette) by contacting the Alternate Format Center at (202) 260-9895 between 8:30 a.m. and 4:30 p.m., Eastern time, Monday through Friday.

SUPPLEMENTARY INFORMATION: We select schools that qualify a borrower for deferment and cancellation benefits under the procedures contained in the Federal Perkins Loan Program regulations in 34 CFR 674.53, 674.54 and 674.55.

We have determined that, for the 1999-2000 academic year, full-time teaching in the schools set forth in the 1999-2000 Directory qualifies a borrower for deferment and cancellation benefits.

We are providing the Directory to each institution participating in the Federal Perkins Loan Program in an electronic format only. Borrowers and other interested parties may check the Web site or their lending institution, the appropriate State or Territory Department of Education, a regional office of the Department of Education, or contact us directly at the Office of Student Financial Assistance concerning the identity of qualifying schools for the 1999-2000 academic year. We retain, on a permanent basis, copies of past Directories.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader program with Search, which is available free at either of the previous sites. If you have questions about using PDF, call the U.S. Government Printing Office (GPO),toll free at 1-888-293-6498; or in the Washington, D.C. area at (202) 512-1530.

Note: The official version of this document is published in the Federal Register. Free Internet access to the official edition of the Federal Register and the Code of Federal Regulations is available on GPO Access at: http://www.access.gpo.gov/nara/index.html.

Program Authority: 20 U.S.C. 1087aa-1087ii and 20 U.S.C. 421-429, unless otherwise noted.

Dated: January 19, 2000.
Greg Woods,
Chief Operating Officer, Office of Student Financial Assistance.

[FR Doc. 00-1727 Filed 1-24-00; 8:45 am]

BILLING CODE 4000-01-P